DEPARTMENT OF ENERGY

Federal Energy Regulatory Commission

[Project No. 15229-000]

Alabama Power Company; Notice of Surrender of Preliminary Permit

Take notice that Alabama Power Company, permittee for the proposed Chandler Mountain Pumped Storage Project No. 15229, has requested that its preliminary permit be terminated. The permit was issued on March 24, 2022 ¹ and would have expired on February 28, 2026. The project would have been located on Little Canoe Creek, Gulf Creek, and Jake Creek near the town of Steele, in Etowah and St. Clair Counties, Alabama.²

¹ 178 FERC ¶ 61,209 (2022).

² Little Canoe Creek, Gulf Creek, and Jake Creek are tributaries of the Coosa River.

The preliminary permit for Project No. 15229 will remain in effect until the close of business, September 21, 2023. But, if the Commission is closed on this day, then the permit remains in effect until the close of business on the next day in which the Commission is open.³ New applications for this site may not be submitted until after the permit surrender is effective.

³ 18 CFR 385.2007(a)(2) (2022).

Dated: August 22, 2023.
Kimberly D. Bose,
Secretary.

[FR Doc. 2023-18528 Filed 8-25-23; 8:45 am]

BILLING CODE 6717-01-P